DEPARTMENT OF HEALTH AND HUMAN SERVICES

Administration for Children and Families

Agency Recordkeeping/Reporting Requirements Under Emergency Review by the Office of Management and Budget (OMB)

Title: Confirmation of Immigration Status for Recently-Released Indefinite Detainees.

OMB No.: New request.

Description: On June 28, 2001, the U.S. Supreme Court issued its decision in Zadvydas v. Davis. The case concerned “indefinite detainees” or “lifers,” which are terms used to refer to noncitizens who, after having served time for a criminal conviction and being given a final order of removal by the Immigration and Naturalization Service (INS), remain indefinitely in U.S. jails because their home country and no other countries will accept them. In Zadvydas the Supreme Court held that the law limits an “alien's detention to a period reasonably necessary to bring about that alien's removal from the United States, and does not permit indefinite detention.” Shortly after the Supreme Court decision, Attorney General John Ashcroft ordered the INS to begin looking into the release of certain indefinite detainees. Some of these individuals already have been release from detention.

In a number of cases, indefinite detainees originally came to the U.S. as refugees or had another status that made them eligible for Office of Refugee Resettlement (ORR)-funded benefits and services.¹ These individuals, upon release from detention, may come to benefit-granting agencies for assistance. Prior to providing benefits or services, benefit-granting agencies must determine status, identity, the date an individual initially became eligible for benefits (i.e., entry date) and, in certain cases, nationality. However, benefit-granting agencies are unable to make these determinations for recently released detainees for a number of reasons including lack of INS documentation showing status and entry date and incomplete and untimely responses from the INS Systematic Alien Verification for Entitlements (SAVE) System.

¹ Individuals with the following statuses are eligible for ORR-funded benefits (see 45 CFR 400.43 and ORR State Letters 00-17 and 01-13): (1) Refugees under § 207 of the Immigration and Nationality Act (INA), (2) asylees whose status was granted under § 208 of the INA, (3) Cuban and Haitian entrants, in accordance with the requirements in 45 CFR part 401, (4) certain Amerasians from Vietnam and (5) victims of severe forms of trafficking.

In this notice, ACF announces that ORR has worked out an agreement with the INS under which benefit-granting agencies will contact ORR and provide as much of the following information as possible for a recently released detainee wishing to access benefits: name, alien registration number, date of birth, social security number, home country, number on the I-94 card, parents' names, driver's license number and copies of any immigration documents. ORR then will relay this information to the INS. INS will tell ORR the individual's original immigration status, such as refugee, and ORR will inform the benefit-granting agency whether or not the individual is eligible for assistance.

Respondents: Individuals, State and local governments, not-for-profit organizations.

Annual Burden Estimates

Number of Respondents: 10.

Number of Responses per Respondent: 10.

Average Burden Hours per Response: 0.25.

Estimated Total Annual Burden Hours: 25 hours.

Additional Information: ACF is requesting that OMB grant a 180 day approval for this information collection under procedures for emergency processing by December 21, 2001. A copy of this information collection, with applicable supporting documentation, may be obtained by calling the Administration for Children and Families, Reports Clearance Officer, Robert Sargis at (202) 690-7275. In addition, a request may be made by sending an e-mail request to: rsargis@acf.dhhs.gov.

Comments and questions about the information collection described above should be directed to the following address by December 21, 2001: Office of Information and Regulatory Affairs, Attn: OMB Desk Officer for ACF, Office of Management and Budget, Paper Reduction Project, 725 17th Street, NW., Washington, DC 20503.

Dated: December 18, 2001.
Bob Sargis,
Reports Clearance Officer.

[FR Doc. 01-31676 Filed 12-26-01; 8:45 am]

BILLING CODE 4184-01-M